DEPARTMENT OF COMMERCE

International Trade Administration

(C-122-848)

Hard Red Spring Wheat from Canada: Notice of Extension of Time Limit for Countervailing Duty Expedited Review

AGENCY: Import Administration, International Trade Administration, Department of Commerce.

SUMMARY: The Department of Commerce is extending the time limit for the preliminary results of the countervailing duty expedited review of hard red spring wheat from Canada. The period of review is August 1, 2001, through July 31, 2002.

EFFECTIVE DATE: June 24, 2004.

FOR FURTHER INFORMATION CONTACT: Daniel J. Alexy, Office of AD/CVD Enforcement I, Import Administration, U.S. Department of Commerce, 14th Street and Constitution Avenue, NW, Washington, DC 20230; telephone (202) 482-1540.

SUPPLEMENTARY INFORMATION:

Background:

On December 23, 2003, the Department of Commerce (“the Department”) initiated a countervailing duty expedited review of Richelain Farms. See Notice of Initiation of Countervailing Duty Expedited Review, 68 FR 75490 (December 31, 2003). The preliminary results are currently due no later than June 21, 2004.

Time Limits

Sections 351.214(k)(3) and 351.214(i)(1) of the Department's regulations require the Department to issue the preliminary results within 180 days after the date on which the expedited review is initiated. However, if the proceeding is extraordinarily complicated, section 351.214(i)(2) of the regulations allows the Department to extend this deadline to a maximum of 300 days.

Extension of Time Limit

The Department has determined that additional time is necessary to issue the preliminary results in this expedited review for the reasons stated in the memorandum from Susan Kuhbach to Jeffrey May, dated June 16, 2004. Therefore, in accordance with sections 351.214(k)(3) and 351.214(i) of the Department's regulations, we are extending the time limit of the preliminary results of this expedited review until no later than October 18, 2004.

This notice is published pursuant to section 777(i)(1) of the Act.

Dated: June 18, 2004.
Jeffrey May,
Deputy Assistant Secretary for Import Administration, Group 1.

[FR Doc. 04-14364 Filed 6-23-04; 8:45 am]

BILLING CODE 3510-DS-S